SECURITIES AND EXCHANGE COMMISSION

Issuer Delisting; Notice of Application of Glacier Water Services, Inc. and Glacier Water Trust I To Withdraw Its Common Stock, $.01 Par Value, and Glacier Water Services, Inc. and Glacier Water & Trust I To Withdraw the 9 1/16% Cumulative Trust Preferred Securities of Glacier Water Trust I, From Listing and Registration on the American Stock Exchange LLC File No. 1-11012

January 11, 2006.

On December 14, 2005, Glacier Water Services, Inc., a Delaware corporation (“Issuer”), the Issuer and Glacier Water Trust I, a Delaware business trust (“Trust”) filed an application with the Securities and Exchange Commission (“Commission”), to withdraw its common stock, $.01 par value, and to withdraw the 9 1/16% cumulative trust preferred securities of the Trust (collectively “Securities”), from listing and registration on the American Stock Exchange LLC (“Amex”) pursuant to Section 12(d) of the Securities Exchange Act of 1934 (“Act”) ¹ and Rule 12d2-2(d) thereunder.²

¹ 15 U.S.C. 78l(d).

² 17 CFR 240.12d2-2(d).

On November 30, 2005, the Board of Directors (“Board”) of the Issuer approved resolutions to withdraw the Securities from listing and registration on Amex.³ The Issuer stated that on November 23, 2005, it received a notice from Amex regarding its non-compliance with certain continued listing standards. The Issuer decided that it is in the best interest of its shareholders to withdraw from listing voluntarily rather than to take steps that would be necessary to remedy the non-compliance. The Issuer stated that it expects the Securities to trade in the Pink Sheets over-the-counter market after the Securities are delisted from Amex.

³ The Issuer owns all of the common securities of the Trust and controls the Trust. See telephone conversation between Steve L. Kuan, Special Counsel, Division of Market Regulation, Commission, and Howard F. Hart, Partner, Weissmann Wolff Bergman Coleman Grodin & Evall LLP, counsel to Issuer, on January 6, 2006.

The Issuer and the Trust stated that they have met the requirements of Amex's rules governing an issuer's voluntary withdrawal of a security from listing and registration by complying with all the applicable laws in effect in the state of Delaware, in which each is incorporated or organized, and by providing Amex with the required documents for withdrawal from Amex.

The application relates solely to the withdrawal of the Securities from listing on Amex and from registration under Section 12(b) of the Act,⁴ and shall not affect their obligation to be registered under Section 12(g) of the Act.⁵

⁴ 15 U.S.C. 78l(b).

⁵ 15 U.S.C. 78l(g).

Any interested person may, on or before February 6, 2006, comment on the facts bearing upon whether the application has been made in accordance with the rules of Amex, and what terms, if any, should be imposed by the Commission for the protection of investors. All comment letters may be submitted by either of the following methods:

Electronic Comments

• Use the Commission's Internet comment form (http://www.sec.gov/rules/delist.shtml); or

• Send an e-mail to rule-comments@sec.gov. Please include the File Number 1-11012 or;

Paper Comments

• Send paper comments in triplicate to Nancy M. Morris, Secretary, Securities and Exchange Commission, 100 F Street, NE., Washington, DC 20549-9303.

All submissions should refer to File Number 1-11012. This file number should be included on the subject line if e-mail is used. To help us process and review your comments more efficiently, please use only one method. The Commission will post all comments on the Commission's Internet Web site (http://www.sec.gov/rules/delist.shtml). Comments are also available for public inspection and copying in the Commission's Public Reference Room. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁶
⁶ 17 CFR 200.30-3(a)(1).
Nancy M. Morris,
Secretary.

[FR Doc. E6-461 Filed 1-17-06; 8:45 am]

BILLING CODE 8010-01-P